DEPARTMENT OF COMMERCE

International Trade Administration

[A-570-945]

Prestressed Concrete Steel Wire Strand From the People's Republic of China: Postponement of Final Determination

AGENCY: Import Administration, International Trade Administration, Department of Commerce.

DATES: Effective Date: January 13, 2010.

FOR FURTHER INFORMATION CONTACT: Alan Ray or Alexis Polovina, AD/CVD Operations, Office 9, Import Administration, International Trade Administration, U.S. Department of Commerce, 14th Street and Constitution Avenue, NW., Washington, DC 20230; telephone: (202) 482-5403 or (202) 482-3927, respectively.

Postponement of Final Determination and Extension of Provisional Measures

On December 29, 2009, and January 4, 2010, Xinhua Metal Products Co., Ltd. (“Xinhua Metals”) and Wuxi Jinyang Metal Products Co., Ltd. (“WJMP”) requested that pursuant to the affirmative preliminary determination in this investigation, the Department postpone its final determination by 60 days under section 735(a)(2) of the Tariff Act of 1930, as amended (“the Act”). Xinhua Metals and WJMP also requested that the Department extend the application of the provisional measures prescribed under 19 CFR 351.210(e)(2) from a 4-month period to a 6-month period. In accordance with section 733(d) of the Act and 19 CFR 351.210(b), because (1) Our preliminary determination is affirmative, (2) the requesting exporters account for a significant proportion of exports of the subject merchandise, and (3) no compelling reasons for denial exist, we are granting the request and are postponing the final determination until no later than 135 days after the publication of the preliminary determination notice in the Federal Register, or May 7, 2010. Suspension of liquidation will be extended accordingly. This determination is issued and published in accordance with section 735(d) of the Act.

Dated: January 7, 2010.
Ronald K. Lorentzen,
Deputy Assistant Secretary for Import Administration.

[FR Doc. 2010-491 Filed 1-12-10; 8:45 am]

BILLING CODE 3510-DS-P